DEPARTMENT OF TRANSPORTATION

Federal Aviation Administration

14 CFR Part 39

[Docket No. FAA-2010-0547; Directorate Identifier 2009-NM-234-AD; Amendment 39-17354; AD 2013-03-20]

RIN 2120-AA64

Airworthiness Directives; The Boeing Company Airplanes

AGENCY: Federal Aviation Administration (FAA), DOT.

ACTION: Final rule.

SUMMARY: We are adopting a new airworthiness directive (AD) for all The Boeing Company Model 757 airplanes. This AD was prompted by reports of fuel leaking from the front spar of the wing through the slat track housing. This AD requires a detailed inspection of the inboard and outboard main slat track downstop assemblies and a torque application to the main track downstop assembly nuts of slat numbers 1 through 10, excluding the outboard track of slats 1 and 10; a detailed inspection of all slat track housings for foreign object debris (FOD) and visible damage; and corrective actions if necessary. We are issuing this AD to detect and correct incorrectly installed main slat track downstop assemblies, which, when the slat is retracted, could cause a puncture in the slat track housing and lead to a fuel leak and potential fire.

DATES: This AD is effective March 26, 2013.

The Director of the Federal Register approved the incorporation by reference of a certain publication listed in the AD as of March 26, 2013.

ADDRESSES: For service information identified in this AD, contact Boeing Commercial Airplanes, Attention: Data & Services Management, P. O. Box 3707, MC 2H-65, Seattle, WA 98124-2207; phone: 206-544-5000, extension 1; fax: 206-766-5680; Internet: https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Nancy Marsh, Aerospace Engineer, Airframe Branch, ANM-120S, Seattle Aircraft Certification Office (ACO), FAA, 1601 Lind Avenue SW., Renton, WA 98057-3356; phone: 425-917-6440; fax: 425-917-6590; email: Nancy.Marsh@faa.gov.

SUPPLEMENTARY INFORMATION:

Discussion

We issued a supplemental notice of proposed rulemaking (SNPRM) on May 18, 2012, to amend 14 CFR part 39 to include an airworthiness directive that would apply to the specified products. That SNPRM published in the Federal Register on June 1, 2012 (77 FR 32433). The original NPRM (75 FR 31327, June 3, 2010) proposed to require a detailed inspection of the inboard and outboard main slat track downstop assemblies and a torque application to the main track downstop assembly nuts of slat numbers 1 through 10, excluding the outboard track of slats 1 and 10; a detailed inspection of all slat track housings for FOD and visible damage; and corrective actions if necessary. The SNPRM proposed to require inspection results reporting.

Comments

We gave the public the opportunity to participate in developing this AD. The following presents the comments received on the NPRM (77 FR 32433, June 1, 2012) and the FAA's response to each comment.

Support for the SNPRM (77 FR 32433, June 1, 2012)

American Airlines (AAL) stated that it has reviewed the SNPRM (77 FR 32433, June 1, 2012) and agrees with the intent.

UPS stated that it concurs with the technical reasons for the inspections and has been accomplishing those inspections since February 2011.

Requests To Revise Cost Estimate

AAL and Boeing requested that we revise the “Costs of Compliance” section of the SNPRM (77 FR 32433, June 1, 2012) to account for more hours necessary to accomplish the inspections.

AAL stated that it has completed a representative sample of affected airplanes, and, contrary to the 20 estimated work-hours to accomplish the inspection as specified in the SNPRM (77 FR 32433, June 1, 2012), it has been taking between 100 and 300 work-hours.

Boeing stated that it has received input from an operator that additional time is necessary to clean the grease from inside the slat can in order to complete the required inspection. Boeing stated that the work-hours required to accomplish the inspection are approximately 80 hours (not 20 hours, as specified in Boeing Special Attention Service Bulletin 757-57-0068, Revision 1, dated July 19, 2011 (which was referred to as the appropriate source of service information in the SNPRM (77 FR 32433, June 1, 2012)).

We agree to change the work-hours specified in this AD, but not to the extent requested by AAL. We have changed the estimated costs specified in the AD preamble to 80 work-hours.

Request To Include Borescope Procedures

AAL stated that it has found that a borescope inserted through the drain hole located in the front spar below each slat track housing opening provides easier access and a better view of the slat housing interior than the proposed detailed inspection. AAL stated that it might be of benefit to operators to specifically include a borescope inspection in the service information work instructions.

We do not agree to change the AD to include borescope procedures. Boeing Special Attention Service Bulletin 757-57-0068, Revision 1, dated July 19, 2011, does not recommend a specific procedure for use of the borescope. We have determined that the current detailed inspection is adequate to address the identified unsafe condition and that delaying this action until after the release of a revised service bulletin is not warranted. However, under the provisions of paragraph (l) of this AD, we will consider requests for an alternate inspection procedure if sufficient data are submitted to substantiate that the alternate inspection procedure would satisfactorily address the identified unsafe condition. We have not changed the AD in this regard.

Request To Allow Simultaneous Inspection Steps

AAL requested that we include the text of General Note 1 that appeared in Boeing Special Attention Service Bulletin 757-57-0068, dated September 15, 2009, which was referenced in the original NPRM (75 FR 31327, June 3, 2010) as the appropriate source of service information for the proposed actions. AAL stated that this note allowed operators to accomplish the inspections on both wings simultaneously, or on multiple slat can locations on the same wing simultaneously, instead of performing the inspections on each slat can sequentially.

We partially agree. We agree with revising the AD to allow for inspections of multiple slat can locations, on both wings, to be performed simultaneously, because there is no effect on the accomplishment of the service information. We have added new paragraph (h)(3) to this AD to include this provision. However, we disagree with adding the full text of General Note 1 to the AD, because the note could be interpreted as allowing the inspection steps at a specific slat can to be performed out of sequence, which could detrimentally affect the results of the inspection and/or corrective actions.

Request To Extend Compliance Time

AAL requested that we extend the compliance time from 24 months to 72 months after issuance of the AD to accomplish the required actions. AAL stated that “extending the inspection threshold to 72 months enables operators who have extended their maintenance program in accordance with Boeing Maintenance Planning Data to accomplish this modification at the first heavy maintenance visit after the effective date of the AD, thus precluding the addition of unnecessary out-of-service days.”

We do not agree to extend the compliance time to accomplish the required actions. In developing an appropriate compliance time for this AD, we considered not only the safety implications, but the manufacturer's recommendations and the practical aspect of accomplishing the actions within an interval of time that corresponds to typical scheduled maintenance for affected operators. Also, the Boeing service information cited in the original NPRM (75 FR 31327, June 3, 2010) has been available to operators since September 2009; therefore, U.S. operators have had ample time to consider initiating those actions, which this AD ultimately requires. Under the provisions of paragraph (l) of this AD, however, we might consider requests for adjustments to the compliance time if data are submitted to substantiate that such an adjustment would provide an acceptable level of safety. We have not changed the AD in this regard.

Request To Change Reporting Method

UPS requested that we revise paragraph (i) of the SNPRM (77 FR 32433, June 1, 2012) to allow reporting of results of inspections performed prior to the effective date of the AD to be in a different format than that specified in Appendix A of Boeing Special Attention Service Bulletin 757-57-0068, Revision 1, dated July 19, 2011. UPS stated that the reporting format provided in Appendix A of Boeing Special Attention Service Bulletin 757-57-0068, Revision 1, dated July 19, 2011, is detailed, and that some of the details of inspections performed prior to the issuance of the SNPRM were not recorded in such detail. UPS noted that such detailed reporting was not part of the original NPRM (75 FR 31327, June 3, 2010).

We do not agree to change the reporting requirement in this AD. The AD requires the use of Appendix A of Boeing Special Attention Service Bulletin 757-57-0068, Revision 1, dated July 19, 2011, as a means of gathering the details of the inspection findings. These additional details, which are not included in Appendix A of Boeing Special Attention Service Bulletin 757-57-0068, dated September 15, 2009, are necessary in order to evaluate whether further rulemaking to address this safety issue is warranted. However, under the provisions of paragraph (l) of this final rule, we might consider requests for approval of alternative reporting methods if sufficient data are submitted to substantiate that such an alternative method would provide an acceptable level of information gathering. We have not changed the final rule in this regard.

Conclusion

We reviewed the relevant data, considered the comments received, and determined that air safety and the public interest require adopting the AD with the changes described previously and minor editorial changes. We have determined that these minor changes:

• Are consistent with the intent that was proposed in the SNPRM (77 FR 32433, June 1, 2012) for correcting the unsafe condition; and

• Do not add any additional burden upon the public than was already proposed in the SNPRM (77 FR 32433, June 1, 2012).

We also determined that these changes will not increase the economic burden on any operator or increase the scope of the AD.

Costs of Compliance

We estimate that this AD affects 645 airplanes of U.S. registry.

We estimate the following costs to comply with this AD:

Estimated Costs
Action | Labor cost | Parts cost | Cost per product | Cost on U.S. operators
Inspection | 80 work-hours × $85 per hour = $6,800 | $0 | $6,800 | $4,386,000

We have received no definitive data that would enable us to provide cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-03-20 The Boeing Company: Amendment 39-17354; Docket No. FAA-2010-0547; Directorate Identifier 2009-NM-234-AD.

(a) Effective Date

This airworthiness directive (AD) is effective March 26, 2013.

(b) Affected ADs

None.

(c) Applicability

This AD applies to all The Boeing Company Model 757-200, -200PF, -200CB, and -300 series airplanes, certificated in any category.

(d) Subject

Joint Aircraft System Component (JASC)/Air Transport Association (ATA) of America Code 57, Wings.

(e) Unsafe Condition

This AD was prompted by reports of fuel leaking from the front spar of the wing through the slat track housing. We are issuing this AD to detect and correct incorrectly installed main track downstop assemblies, which, when the slat is retracted, could cause a puncture in the slat track housing and lead to a fuel leak and potential fire.

(f) Compliance

Comply with this AD within the compliance times specified, unless already done.

(g) Inspection and Torque Application

Except as required by paragraph (h)(1) of this AD, at the applicable time specified in paragraph 1.E., “Compliance,” of Boeing Special Attention Service Bulletin 757-57-0068, Revision 1, dated July 19, 2011: Do the actions specified in paragraphs (g)(1) and (g)(2) of this AD.

(1) Perform a detailed inspection of the inboard and outboard main track downstop assemblies of slat numbers 1 through 10, excluding the outboard main track downstop assemblies of slat numbers 1 and 10, for correct assembly order and missing or damaged parts; perform a detailed inspection of all slat track housings for foreign object debris, visible damage, and missing parts; and do all applicable corrective actions; in accordance with the Accomplishment Instructions of Boeing Special Attention Service Bulletin 757-57-0068, Revision 1, dated July 19, 2011, except as required by paragraphs (h)(1), (h)(2), and (h)(3) of this AD. Do all applicable corrective actions before further flight.

(2) Apply torque to the main track down stop assembly nuts to make sure they have been correctly installed, in accordance with the Accomplishment Instructions of Boeing Special Attention Service Bulletin 757-57-0068, Revision 1, dated July 19, 2011.

(h) Exceptions to the Service Information

(1) Where Boeing Special Attention Service Bulletin 757-57-0068, Revision 1, dated July 19, 2011, specifies a compliance time “after the date on this service bulletin,” this AD requires compliance at the specified time after the effective date of this AD.

(2) Where Boeing Special Attention Service Bulletin 757-57-0068, Revision 1, dated July 19, 2011, specifies to contact Boeing for appropriate action: Before further flight, repair the damage using a method approved in accordance with the procedures specified in paragraph (l)(1) of this AD.

(3) Although Boeing Special Attention Service Bulletin 757-57-0068, Revision 1, dated July 19, 2011, specifies the slat can inspections are to occur on the slat cans sequentially, this AD allows for the inspections of the slat cans at locations 1 through 10 to be accomplished in any order, including multiple slat can locations simultaneously, provided that all the instructions of each applicable figure of Boeing Special Attention Service Bulletin 757-57-0068, Revision 1, dated July 19, 2011, are completed in sequence on each slat can.

(i) Reporting Requirement

If any of the conditions specified in paragraph B.3., “Part 3—Appendix A: Inspection Results Report,” of the Accomplishment Instructions of Boeing Special Attention Service Bulletin 757-57-0068, Revision 1, dated July 19, 2011, are found during the inspection required by paragraph (g) of this AD, submit a report of the inspection findings at the applicable time specified in paragraph (i)(1) or (i)(2) of this AD, as specified in Appendix A of Boeing Special Attention Service Bulletin 757-57-0068, Revision 1, dated July 19, 2011, to Boeing through the Boeing Communication System (BCS). The report must include a description of any discrepancies found, the airplane serial number, and the number of landings and flight hours on the airplane.

(1) If the inspection was done on or after the effective date of this AD: Submit the report within 30 days after the inspection.

(2) If the inspection was done before the effective date of this AD: Submit the report within 30 days after the effective date of this AD.

(j) Credit for Previous Actions

This paragraph provides credit for actions required by paragraph (g) of this AD, if those actions were performed before the effective date of this AD using Boeing Special Attention Bulletin 757-57-0068, dated September 15, 2009, which is not incorporated by reference in this AD, provided the inspection results are reported as specified in paragraph (i)(2) of this AD.

(k) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

(m) Related Information

(1) For more information about this AD, contact Nancy Marsh, Aerospace Engineer, Airframe Branch, ANM-120S, Seattle Aircraft Certification Office (ACO), FAA, 1601 Lind Avenue SW., Renton, Washington 98057-3356; phone: 425-917-6440; fax: 425-917-6590; email: Nancy.Marsh@faa.gov.

(2) For Boeing service information identified in this AD, contact Boeing Commercial Airplanes, Attention: Data & Services Management, P. O. Box 3707, MC 2H-65, Seattle, Washington 98124-2207; phone: 206-544-5000, extension 1; fax: 206-766-5680; Internet: https://www.myboeingfleet.com.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 757-57-0068, Revision 1, dated July 19, 2011.

(ii) Reserved.

(3) For service information identified in this AD, contact Boeing Commercial Airplanes, Attention: Data & Services Management, P. O. Box 3707, MC 2H-65, Seattle, Washington 98124-2207; phone: 206-544-5000, extension 1; fax: 206-766-5680; Internet: https://www.myboeingfleet.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 6, 2013.
Ali Bahrami,
Manager, Transport Airplane Directorate, Aircraft Certification Service.

[FR Doc. 2013-03268 Filed 2-15-13; 8:45 am]

BILLING CODE 4910-13-P